NUCLEAR REGULATORY COMMISSION

[NRC-2009-0171]

Final Regulatory Guide: Issuance, Availability

AGENCY: Nuclear Regulatory Commission.

ACTION: This document corrects a notice appearing in the Federal Register on April 20, 2009 (74 FR 18000), concerning the issuance of Regulatory Guide 1.211 and the withdrawal of Regulatory Guide 1.131. This action is necessary to correct an Agencywide Documents Access and Management System accession number.

FOR FURTHER INFORMATION CONTACT: Mark Orr, Regulatory Guide Development Branch, Division of Engineering, Office of Nuclear Regulatory Research, U.S. Nuclear Regulatory Commission, Washington, DC 20555-0001, telephone (301) 251-7495 or e-mail to Mark.Orr@nrc.gov.

SUPPLEMENTARY INFORMATION: On page 18000, in the third column, in the first complete paragraph, the accession number is changed from “ML081690227,” to read “ML082530230.”

Dated at Rockville, Maryland, this 28th day of April 2009.
For the Nuclear Regulatory Commission.
Andrea D. Valentin,
Chief, Regulatory Guide Development Branch, Division of Engineering, Office of Nuclear Regulatory Research.

[FR Doc. E9-10136 Filed 5-1-09; 8:45 am]

BILLING CODE 7590-01-P